DEPARTMENT OF TRANSPORTATION

Federal Aviation Administration

Notice of Intent To Rule on Application To Impose a Passenger Facility Charge (PFC) at Love Field, Dallas, TX

AGENCY: Federal Aviation Administration (FAA), DOT.

ACTION: Notice of intent to rule on application.

SUMMARY: The FAA proposes to rule and invites public comment on the application to impose a PFC at Love Field under the provisions of the Aviation Safety and Capacity Expansion Act of 1990 (Title IX of the Omnibus Budget Reconciliation Act of 1990) (Pub. L. 101-508) and Part 158 of the Federal Aviation Regulations (14 CFR part 158).

DATES: Comments must be received on or before December 12, 2003.

ADDRESSES: Comments on this application may be mailed or delivered in triplicate copies to the FAA at the following address: Mr. G. Thomas Wade, Federal Aviation Administration, Southwest Region, Airports Division, Planning and Programming Branch, AWS-611, Fort Worth, Texas 76193-0610.

In addition, one copy of any comments submitted to the FAA must be mailed or delivered to Mr. Kenneth Gwyn, Director of Aviation, City of Dallas at the following address: 8008 Cedar Springs Road, LB-16, Dallas, Texas 77235.

Air carriers and foreign air carriers may submit copies of the written comments previously provided to the Airport under § 158.23 of part 158.

FOR FURTHER INFORMATION CONTACT: Mr. G. Thomas Wade, Federal Aviation Administration, Southwest Region, Airports Division, Planning and Programming Branch, ASW-611, Fort Worth, Texas 76193-0610, (817)

222-5613.

The application may be reviewed in person at this same location.

SUPPLEMENTARY INFORMATION: The FAA proposes to rule and invites public comment on the application to impose a PFC at Dallas Love Field under the provisions of the Aviation Safety and Capacity Expansion Act of 1990 (Title IX of the Omnibus Budget Reconciliation Act of 1990) (Pub. L. 101-508) and part 158 of the Federal Aviation Regulations (14 CFR part 158).

On October 30, 2003, the FAA determined that the application to impose and use the revenue from a PFC submitted by the Airport was substantially complete within the requirements of § 158.25 of part 158. The FAA will approve or disapprove the application, in whole or in part, no later than February 26, 2004.

The following is a brief overview of the application.

Level of the proposed PFC: $3.00.

Proposed charge effective date: January 1, 2005.

Proposed charge expiration date: January 1, 2012.

Total estimated PFC revenue: $53,300,000.

PFC application number: 04-01-I-00-DAL.

Brief Description of Proposed Project(s)

Projects To Impose a PFC

1. Construct Light Rail Transit Station

Proposed class or classes or air carriers to be exempted from collecting PFC's: Air Taxi/Commercial Operators Filing FAA Form 1800-31, Non-scheduled Commuters/Small Certificated Air Carriers, Non-scheduled Large Certificated Air Carriers, Non-scheduled Foreign Flag Air Carriers, Scheduled Foreign Flag Air Carriers.

Any person may inspect the application in person at the FAA office listed above under FOR FURTHER INFORMATION CONTACT and at the FAA regional Airports office located at: Federal Aviation Administration, Southwest Region, Airports Division, Planning and Programming Branch, ASW-610, 2601 Meachum Blvd., Fort Worth, Texas 76137-4298.

In addition, any person may, upon request, inspect in person the application, notice and other documents germane to the application at Dallas Love Field.

Issued in Fort Worth, Texas, on October 31, 2003.
Naomi L. Saunders,
Manager, Airports Division.

[FR Doc. 03-28270 Filed 11-10-03; 8:45 am]

BILLING CODE 4910-13-M